DEPARTMENT OF COMMERCE

National Oceanic and Atmospheric Administration

50 CFR Part 635

[Docket No. 010319074-1104-02; I.D. 022201B]

RIN 0648-AP13

Atlantic Highly Migratory Species (HMS) Fisheries; Pelagic Longline Management

AGENCY: National Marine Fisheries Service (NMFS), National Oceanic and Atmospheric Administration (NOAA), Commerce.

ACTION: Proposed rule; withdrawal.

SUMMARY: NMFS withdraws its proposal to extend the closure of the Charleston Bump area to pelagic longline fishing through May 31, 2001. Through a previously issued final rule, the Charleston Bump area remains closed to pelagic longline fishing annually from February 1 through April 30.

DATES: The proposed rule published on March 30, 2001 (66 FR 17389), is withdrawn as of May 2, 2001.

ADDRESSES: Copies of the Final Environmental Assessment and Regulatory Impact Review that accompany this notification of withdrawal can be obtained from Christopher Rogers, Acting Chief, Highly Migratory Species Management Division, Office of Sustainable Fisheries, NMFS, 1315 East-West Highway, Silver Spring, MD 20910.

FOR FURTHER INFORMATION CONTACT: Karyl Brewster-Geisz, NMFS, at (301) 713-2347 or by email at karyl.brewster-geisz@noaa.gov, or Jill Stevenson, NMFS-Southeast Regional Office at (727) 570-5447 or by email at jill.stevenson@noaa.gov.

SUPPLEMENTARY INFORMATION: A final rule (65 FR 47214, August 1, 2000) to implement a regulatory amendment to the Fishery Management Plan for Atlantic Tunas, Swordfish, and Sharks included a provision to close the Charleston Bump area to pelagic longline fishing on an annual basis from February 1 through April 30. NMFS subsequently delayed the effective date of the closed area for 2001 to March 1 to correct the coordinates of the closed areas and to distribute this information to affected fishermen and law enforcement (66 FR 8903, February 5, 2001). On March 30, 2001, NMFS proposed to extend the closure period of the Charleston Bump area through May 31, 2001 (66 FR 17389).

The intent of the proposed action was to partially recover environmental benefits in terms of bycatch reduction that were likely lost when the closure was delayed from February 1, 2001, until March 1, 2001. In a draft Environmental Assessment prepared in support of the proposed action, NMFS evaluated the costs and benefits of the extension consistent with the objectives of the final rule previously implementing the seasonal closure. The proposed action would not have affected the closure dates for the Charleston Bump area in future years. NMFS requested comments from the public and held a public hearing on April 3, 2001.

NMFS received many comments on the proposed rule. Some of the comments supported the proposed rule and noticed the environmental benefits in terms of bycatch reduction. Other comments did not support the proposed rule and stated that the proposed extension would have little impact over the long-term to these fish on a stock-wide basis and that the extension has no scientific basis. NMFS also received comments stating that the extension should last through the month of June to recoup lost bycatch reduction benefits for the delay of the East Florida Coast closure as well as the delay of the Charleston Bump closure. Additional comments noted that NMFS’ estimates of the number of vessels that fish in February in the Charleston Bump is high, especially for this year due to bad weather, and that fishermen should not be punished because NMFS made an error.

NMFS also received comments regarding the economic impacts that the proposed extension could have on the fishermen and dealers in the Charleston Bump area. These comments included: fishermen fishing in the Charleston Bump in May and June target dolphin fish, not swordfish; dolphin fish fishing costs less (shorter leaders, no lightsticks, less bait, etc.) and, therefore, profits are higher in May than any other time of year; 25 percent of a fisherman’s annual income is received in May; the Small Business Administration has declared South Carolina a disaster area due to the shrimp fishery failure and an extension would further exacerbate the problem for these communities; the short notice of the extension would not give fishermen sufficient time to adjust fishing patterns to minimize economic and social impacts; fishermen and dealers around both the Charleston Bump and East Florida Coast have been relying on and planning for the area to reopen on May 1 since the closure dates were announced last August; and recreational fishing is economically valuable to the communities and any reduction in longline bycatch could benefit the communities especially given the tournaments that open in May.

NMFS also received miscellaneous comments that included: the comment period was too short given the length of a longline trip; U.S. fishermen already take voluntary action to reduce bycatch and additional regulations may have negative impacts in negotiating conservation measures internationally; if NMFS closes the Charleston Bump for an extended period, fishermen will be forced to fish offshore even if it is unsafe to do so; NMFS should evaluate the effectiveness of existing closures before proposing new ones; and NMFS needs to research and implement other methods of bycatch reduction and VMS.

NMFS is concerned about bycatch and bycatch mortality in all Atlantic highly migratory species fisheries and will continue to evaluate existing bycatch reduction measures as well as pursue additional measures as necessary. However, due to the large economic impacts extending the closure could have, the short time period in which fishermen and dealers would have to adjust fishing patterns to avoid the Charleston Bump, and the fact that NMFS does not know at this time the actual impact on bycatch reduction of both the delay in the Charleston Bump and East Florida coast closures and the actual time/area closures, NMFS has determined that extending the closure of the Charleston Bump area through May 31 is unwarranted.

Additional analyses described in the final Environmental Assessment indicate that while effort in the Charleston Bump was low compared to past years, the fishermen who did fish in February caught slightly more billfish and sea turtles than the average. Thus, extending the closure could possibly regain some of the bycatch reductions that may have been lost due to the delay. However, the degree of bycatch reduction achieved by a May 2001 closure would not contribute significantly to bycatch reduction in the pelagic longline fishery beyond the immediate short-term; on the other hand, the economic impacts from this one-time extension could be very significant for fishermen, particularly in light of the August 1, 2000, final rule. In the August 1, 2000, final rule and its accompanying Final Supplemental Environmental Impact Statement, NMFS determined that it was not necessary to close the Charleston Bump in May in order to achieve the objectives of the final rule and reduce bycatch and bycatch reduction. Despite the delay in the closure of the Charleston Bump, because the objectives of the proposed rule were the same as the August 1, 2000, final rule, NMFS agrees with its earlier decision and feels it is necessary to wait until more data are gathered regarding the result of the existing closures and any bycatch reductions gained before adjusting the August 1, 2000, final rule any further.

NMFS acknowledges that bycatch in the pelagic longline fishery is an international issue that requires international cooperation. The United States is working to develop international conservation measures and will continue to negotiate at the International Commission for the Conservation of Atlantic Tunas in support of U.S. fisheries, to the extent that their prosecution is consistent with U.S. domestic legislation. While NMFS is aware that the comment period for the proposed rule was shorter than 45 days, the timing of the proposal required a short comment period in the event that final regulations and supporting documents needed to be prepared. Additionally, NMFS agrees that recreational fishing is economically valuable to communities; however, NMFS must manage fisheries consistent with the Magnuson-Stevens Fishery Conservation and Management Act and its implementing guidelines, which require consideration of traditional fisheries. Safety is the responsibility of each fisherman. While NMFS works to reduce safety concerns related to regulatory actions, fishermen should account for the distance from shore if an area is closed and they redistribute their fishing effort.

Withdrawal of Proposed Rule

Accordingly, for the reasons stated in the preamble, the proposed rule that was published in the Federal Register on March 30, 2001 (66 FR 17389) is withdrawn.

Dated: May 1, 2001.
John Oliver,
Acting Assistant Administrator for Fisheries, National Marine Fisheries Service.

[FR Doc. 01-11420 Filed 5-2-01; 4:25 pm]

BILLING CODE 3510-22-S